DEPARTMENT OF THE INTERIOR

Bureau of Land Management

[CACA 49698, CACA 51204, LLCAD07000, L51010000.FX0000, LVRWB10B3810, LVRWB10B3800]

Notice of Availability of the Draft Environmental Impact Statement/Draft Environmental Impact Report for the Iberdrola Renewable/Pacific Wind Development Tule Wind Project and San Diego Gas and Electric's East County Substation Project, San Diego County, CA

AGENCY: Bureau of Land Management, Interior.

ACTION: Notice of Availability.

SUMMARY: In accordance with the National Environmental Policy Act of 1969, as amended (NEPA), and the Federal Land Policy and Management Act of 1976, as amended (FLPMA), the Bureau of Land Management (BLM) and the California Public Utilities Commission (CPUC) have prepared a Draft Environmental Impact Statement (EIS), and Draft Environmental Impact Report (EIR) as a joint environmental analysis document for the Iberdrola Renewable/Pacific Wind Development Tule Wind Project (Tule Project) and the San Diego Gas and Electric's (SDG&E) East County Substation Project (ECO Project) and by this notice are announcing the opening of the comment period on the Draft EIS/EIR.

DATES: To ensure that your comments will be considered, the BLM must receive written comments on the Draft EIS/EIR by close of business on February 16, 2011. The comment period began on December 23, 2010, with publication of the Notice of Availability in the Federal Register by the Environmental Protection Agency. Recognizing that the public review period began during the holidays, the BLM has decided to extend the 45-day comment period cited in the EPA notice until close of business on February 16, 2011 (55 days total). The BLM and CPUC will hold two joint public informational workshop meetings on the projects; the first in Jacumba, at 7 p.m., on January 26, 2011, at the Jacumba Highland Center on 44681 Old Highway 80, Jacumba, California 91934, and the second in Boulevard, at 7 p.m., on February 2, 2011, at the Boulevard Volunteer Fire Department at 39223 Highway 94, Boulevard, California 91905. The public will be notified in advance of any updates or changes to these public meetings through local media, newspapers and the BLM Web site at: http://www.blm.gov/ca/st/en/fo/elcentro.html.

ADDRESSES: You may submit comments related to the Tule Wind Project and East County Substation Project by any of the following methods:

• Web site: http://www.blm.gov/ca/st/en/fo/cdd.html.

• E-mail: catulewind@blm.gov.

• Fax: (951) 697-5299.

• Mail: ATTN: Greg Thomsen, BLM California Desert District Office (CDDO), 22835 Calle San Juan de Los Lagos, Moreno Valley, California 92553-9046.

Copies of the EIS/EIR are available on the BLM Web site at: http://www.ca.blm.gov/elcentro and also from the CPUC and the CDDO at the above addresses and in the BLM El Centro Field Office, 1661 S. 4th Street, El Centro, California 92243.

FOR FURTHER INFORMATION CONTACT: For further information and/or to have your name added to our mailing list, contact Greg Thomsen, telephone: (951) 697-5237; address: BLM California Desert District Office, 22835 Calle San Juan de Los Lagos, Moreno Valley, California 92553-9046; or via e-mail to catulewind@blm.gov.

SUPPLEMENTARY INFORMATION: The BLM has received applications for rights-of-way (ROW) for two separate, but related, proposed projects in eastern San Diego County. Pacific Wind Development (Iberdrola) has submitted an application to construct, operate, maintain and decommission a 200 megawatt (MW) wind energy generation facility known as the Tule Wind Project. The proposed project site is located on approximately 15,390 acres of land under multiple jurisdictions summarized as follows: Private land—1,040 acres, California State Lands Commission land—619 acres, BLM land—12,133 acres and Tribal land belonging to the Campo/Cuyapaipe/Manzanita Tribes—1,598 acres. The project site is located in the In-Ko-Pah Mountains near the McCain Valley in San Diego County, north of the unincorporated community of Boulevard. The project will consist of approximately 134 wind turbines (1.5 to 3.0 MW each), an overhead and underground 34.5 kilovolt (kV) collector system leading to a collector substation, an operations and maintenance facility, and a 138 kV transmission line as the generation tie-in to the existing Boulevard Substation.

The SDG&E has submitted an application to construct the ECO Project, including a 138 kV transmission line that would traverse approximately 1.5 miles of public land managed by the BLM. The ECO Project includes the construction of a 500/230/138 kV substation on private land near the community of Jacumba, a short loop-in to the Southwest Power Link, the 138 kV transmission line mentioned above, a rebuild of the existing Boulevard Substation, and a rebuild of the existing White Star Communication Facility.

The BLM's purpose and need for the Tule and ECO Projects is to respond to Iberdrola Renewable/Pacific Wind Development and SDG&E applications for a ROW grant to construct, operate, and decommission an energy generation project and a 138 kV transmission line on public lands in compliance with Title V of FLPMA (43 U.S.C. 1761), BLM ROW regulations, and other applicable Federal laws and regulations. The BLM will decide whether to approve, approve with modification, or deny issuance of a ROW grant to Iberdrola Renewable/Pacific Wind Development and SDG&E for the proposed Tule and ECO Projects, respectively. The BLM will take into consideration the provisions of the Energy Policy Act of 2005 and Secretarial Orders 3283 Enhancing Renewable Energy Development on the Public Lands and 3285 Renewable Energy Development by the Department of the Interior in responding to the Iberdrola and SDG&E applications.

The BLM's proposed action in the EIS/EIR is to authorize the Tule Project and the ECO Project in response to the applications received from Iberdrola Renewable/Pacific Wind Development and SDG&E, respectively. The BLM will analyze the following alternatives: for the ECO project; the Proposed Action and No Action alternatives; for the Tule Wind Project; the Proposed Action, authorization of the proposed project with a relocation of the 138 kV generation tie-in line, authorization of the proposed project with a reduction in the number of wind turbines, authorization of the 113 wind turbines, but moving them away from critical habitat and areas having wilderness characteristics, and a No Action alternative.

The BLM will use the NEPA process to satisfy the public involvement requirement for Section 106 of the National Historic Preservation Act (16 U.S.C. 470f) as provided in 36 CFR 800.2(d)(3). Native American Tribal consultations are being conducted in accordance with BLM and Department of the Interior policy, and Tribal concerns will be given due consideration, including impacts on Indian trust assets.

The BLM has entered into a Memorandum of Understanding (MOU) with the CPUC to conduct a joint environmental review of the Tule/ECO Projects on Federal land managed by the BLM. The CPUC is the CEQA lead agency preparing the EIR and the BLM is the lead agency preparing the EIS. The BLM and CPUC have agreed through the MOU to conduct joint environmental review of the project in a single combined NEPA/CEQA process and document. The Draft EIS/EIR evaluates the potential impacts of the proposed Tule and ECO Projects' impacts on air quality, biological resources, cultural resources, water resources, geological resources and hazards, land use, noise, paleontological resources, public health, socioeconomics, soils, traffic and transportation, visual resources, wilderness characteristics, and other resources. A Notice of Intent to Prepare an EIS/EIR for the Tule and ECO Projects in San Diego County, California was published in the Federal Register on December 29, 2009 (74 FR 68860). The BLM held two public scoping meetings in Jacumba and Boulevard, California, on January 27 and 28, 2010, respectively. The formal scoping period ended on February 15, 2010. Please note that public comments will be available for public review and disclosure at the above address during regular business hours (8 a.m. to 4 p.m.), Monday through Friday, except holidays.

Before including your address, phone number, e-mail address, or other personal identifying information in your comment, you should be aware that your entire comment—including your personal identifying information—may be made publicly available at any time. While you can ask us in your comment to withhold your personal identifying information from public review, we cannot guarantee that we will be able to do so.

Authority: 40 CFR 1506.6 and 1506.10 and 43 CFR 1610.2.

Thomas Pogacnik,
Deputy State Director, Natural Resources.

[FR Doc. 2010-33181 Filed 1-3-11; 8:45 am]

BILLING CODE 4310-40-P